DEPARTMENT OF THE INTERIOR

National Park Service

Termination of the Environmental Impact Statement for the General Management Plan, Gila Cliff Dwellings National Monument

AGENCY: National Park Service, Department of the Interior.

ACTION: Notice of termination of the Environmental Impact Statement for the General Management Plan, Gila Cliff Dwellings National Monument, New Mexico.

SUMMARY: The National Park Service (NPS) is terminating the Environmental Impact Statement (EIS) for the Gila Cliff Dwellings General Management Plan because it has determined that an Environmental Assessment (EA) is the more appropriate National Environmental Policy Act compliance document. A Notice of Intent to prepare the EIS for the Gila Cliff Dwellings General Management Plan was published on April 16, 2008 (Federal Register Vol. 73, No. 74). Scoping conducted for the plan indicated that there were no significant impacts or controversy identified by the public. A preliminary impact analysis indicated that the alternatives have limited potential to result in significant/major effects on the human environment as they focus on different ways of protecting resources, providing appropriate visitor experiences, and addressing joint NPS/Forest Service operations. For these reasons the NPS determined the proposal would not require an EIS.

DATES: The request to terminate the Environmental Impact Statement and proceed with an Environmental Assessment was approved by the Chief of the NPS Environmental Quality Division on November 4, 2009. The draft general management plan and Environmental Assessment is expected to be distributed for a 30 day public comment period early in 2011 and a decision is expected be made in the fall of 2011. The NPS will notify the public by mail, Web site, and other means, and will include information on where and how to obtain a copy of the GMP/EA, how to comment on the plan, and the dates of the public comment period.

FOR FURTHER INFORMATION CONTACT: Steve Riley, Superintendent, Gila Cliff Dwellings National Monument, HC 68 Box 100, Silver City, NM 88061. Telephone (575) 536-9461.

SUPPLEMENTARY INFORMATION: In place of the EIS, the NPS will prepare an Environmental Assessment (EA) that analyzes four alternatives (no-action and three action alternatives) that look at different ways of protecting resources, providing appropriate visitor experiences, and addressing joint NPS/Forest Service operations:

—Alternative 1 (No-Action) would continue the present management direction.

—Alternative 2 would emphasize and expand high-quality visitor services and experiences by providing more comprehensive interpretation of the Gila Headwaters area and its 2,000 years of human occupation.

—Alternative 3 would enhance visitor understanding and enjoyment of the Gila Headwaters' natural and cultural heritage by providing a more unified management approach to the two units of the monument.

—Alternative 4 would forge more personal connections between visitors and the ancient cultures and wilderness character of the monument.

Dated: November 12, 2009.
Michael D. Snyder,
Director, Intermountain Region, National Park Service.

[FR Doc. 2010-443 Filed 1-12-10; 8:45 am]

BILLING CODE 4312-FA-P